DEPARTMENT OF ENERGY

Federal Energy Regulatory Commission

Combined Notice of Filings #1

Take notice that the Commission received the following electric corporate filings:

Docket Numbers: EC20-29-000.

Applicants: Northeast Energy Associates, A Limited Partnership, North Jersey Energy Associates, A Limited Partnership, Vistra Energy Corp., NextEra Energy, Inc.

Description: Errata to January 7, 2020 Application for Authorization Under Section 203 of the Federal Power Act, et al. of Northeast Energy Associates, A Limited Partnership, et al.

Filed Date: 1/28/20.

Accession Number: 20200128-5202.

Comments Due: 5 p.m. ET 2/11/20.

Take notice that the Commission received the following exempt wholesale generator filings:

Docket Numbers: EG20-71-000.

Applicants: Blooming Grove Wind Energy Center LLC.

Description: Notice of Self-Certification of Exempt Wholesale Generator Status of Blooming Grove Wind Energy Center LLC.

Filed Date: 1/29/20.

Accession Number: 20200129-5053.

Comments Due: 5 p.m. ET 2/19/20.

Take notice that the Commission received the following electric rate filings:

Docket Numbers: ER10-1910-019; ER10-1911-019.

Applicants: Duquesne Light Company, Duquesne Power, LLC.

Description: Notice of Change in Status of the Duquesne MBR Sellers.

Filed Date: 1/28/20.

Accession Number: 20200128-5191.

Comments Due: 5 p.m. ET 2/18/20.

Docket Numbers: ER12-162-027; ER11-2044-032; ER11-3876-023.

ER13-1266-028; ER15-2211-025; ER18-1419-001.

Applicants: MidAmerican Energy Company, Bishop Hill Energy II LLC, CalEnergy, LLC, Cordova Energy Company LLC, MidAmerican Energy Services, LLC, Walnut Ridge Wind, LLC.

Description: Notice of Non-Material Change in Status of the Berkshire Hathaway Filing Parties.

Filed Date: 1/28/20.

Accession Number: 20200128-5198.

Comments Due: 5 p.m. ET 2/18/20.

Docket Numbers: ER16-902-005.

Applicants: Voyager Wind I, LLC.

Description: Notice of Non-Material Change in Status of Voyager Wind I, LLC.

Filed Date: 1/29/20.

Accession Number: 20200129-5097.

Comments Due: 5 p.m. ET 2/19/20.

Docket Numbers: ER19-1073-002; ER10-2460-015; ER10-2461-016; ER10-2463-015; ER10-2466-016; ER10-2917-019; ER10-2918-020; ER10-2920-019; ER10-2921-019; ER10-2922-019; ER10-2966-019; ER10-3167-011; ER11-2201-019; ER11-2383-014; ER11-3941-017; ER11-3942-020; ER11-4029-015; ER12-1311-015; ER12-161-019; ER12-2068-015; ER12-645-020; ER12-682-016; ER13-1139-019; ER13-1346-011; ER13-1613-012; ER13-17-013; ER13-203-011; ER13-2143-012; ER14-1964-010; ER14-25-015; ER14-2630-012; ER16-287-005; ER17-482-004; ER19-1074-002; ER19-1075-002; ER19-1076-002; ER19-2429-001; ER19-529-002.

Applicants: Alta Wind VIII, LLC, Bear Swamp Power Company LLC, BIF II Safe Harbor Holdings LLC, BIF III Holtwood LLC, Black Bear Development Holdings, LLC, Black Bear Hydro Partners, LLC, Black Bear SO, LLC, BREG Aggregator LLC, Brookfield Energy Marketing Inc., Brookfield Energy Marketing LP, Brookfield Energy Marketing US LLC, Brookfield Power Piney & Deep Creek LLC, Brookfield Renewable Energy Marketing US, Brookfield Renewable Trading and Marketi, Brookfield Smoky Mountain Hydropower LP, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC, Bishop Hill Energy LLC, Blue Sky East, LLC, California Ridge Wind Energy LLC, Canadaigua Power Partners, LLC, Canadaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Wind II, LLC, Vermont Wind, LLC, Stetson Holdings, LLC.

Description: Amendment to October 30, 2019 Notice of Change in Status of the Brookfield Companies and TerraForm Companies.

Filed Date: 1/29/20.

Accession Number: 20200129-5103.

Comments Due: 5 p.m. ET 2/19/20.

Docket Numbers: ER19-1639-002.

Applicants: South Peak Wind LLC.

Description: Notice of Non-Material Change in Status of South Peak Wind LLC.

Filed Date: 1/28/20.

Accession Number: 20200128-5187.

Comments Due: 5 p.m. ET 2/18/20.

Docket Numbers: ER19-1778-001.

Applicants: Glen Ullin Energy Center, LLC.

Description: Notice of Non-Material Change in Status of Glen Ullin Energy Center, LLC.

Filed Date: 1/28/20.

Accession Number: 20200128-5189.

Comments Due: 5 p.m. ET 2/18/20.

Docket Numbers: ER20-276-001.

Applicants: Midcontinent Independent System Operator, Inc.

Description: Tariff Amendment: 2020-01-29_Deficiency Response Prairie Power Attachment O to be effective 1/1/2020.

Filed Date: 1/29/20.

Accession Number: 20200129-5148.

Comments Due: 5 p.m. ET 2/19/20.

Docket Numbers: ER20-884-000.

Applicants: Hanwha Q CELLS USA Corp.

Description: Request for Waiver of Hanwha Q CELLS USA Corp.

Filed Date: 1/27/20.

Accession Number: 20200127-5208.

Comments Due: 5 p.m. ET 2/18/20.

Docket Numbers: ER20-287-001.

Applicants: CPV Fairview, LLC.

Description: Compliance filing: Compliance to 122 to be effective 12/9/2019.

Filed Date: 1/28/20.

Accession Number: 20200128-5161.

Comments Due: 5 p.m. ET 2/18/20.

Docket Numbers: ER20-888-000.

Applicants: Puget Sound Energy, Inc.

Description: § 205(d) Rate Filing: Revised Attachment K Northern Grid Filing to be effective 4/1/2020.

Filed Date: 1/28/20.

Accession Number: 20200128-5155.

Comments Due: 5 p.m. ET 2/18/20.

Docket Numbers: ER20-889-000.

Applicants: CPV Fairview, LLC.

Description: Compliance filing: Compliance to 122 to be effective 12/9/2019.

Filed Date: 1/28/20.

Accession Number: 20200128-5156.

Comments Due: 5 p.m. ET 2/18/20.

Docket Numbers: ER20-890-000.

Applicants: Idaho Power Company.

Description: § 205(d) Rate Filing: Attachment K—NorthernGrid Per FERC 12/27/19 Order to be effective 4/1/2020.

Filed Date: 1/28/20.

Accession Number: 20200128-5162.

Comments Due: 5 p.m. ET 2/18/20.

Docket Numbers: ER20-891-000.

Applicants: MATL LLP.

Description: § 205(d) Rate Filing: NorthernGrid Attachment K 28 Jan 2020 to be effective 4/1/2020.

Filed Date: 1/28/20.

Accession Number: 20200128-5163.

Comments Due: 5 p.m. ET 2/18/20.

Docket Numbers: ER20-892-000.

Applicants: Portland General Electric Company.

Description: § 205(d) Rate Filing: Att K Revision Filing to be effective 4/1/2020.

Filed Date: 1/28/20.

Accession Number: 20200128-5164.

Comments Due: 5 p.m. ET 2/18/20.

Docket Numbers: ER20-893-000.

Applicants: Southwest Power Pool, Inc.

Description: § 205(d) Rate Filing: 3158R1 Basin Electric and MidAmerican Energy Attachment AO to be effective 1/1/2020.

Filed Date: 1/29/20.

Accession Number: 20200129-5001.

Comments Due: 5 p.m. ET 2/19/20.

Docket Numbers: ER20-894-000.

Applicants: PJM Interconnection, L.L.C.

Description: § 205(d) Rate Filing: 4th Quarterly 2019 Revisions to OA, Sch. 12 and RAA, Sch. 17 Members List to be effective 12/31/2019.

Filed Date: 1/29/20.

Accession Number: 20200129-5029.

Comments Due: 5 p.m. ET 2/19/20.

Docket Numbers: ER20-895-000.

Applicants: NC 102 Project LLC.

Description: § 205(d) Rate Filing: Notice of Non-Material Change in Status to be effective 1/30/2020.

Filed Date: 1/29/20.

Accession Number: 20200129-5034.

Comments Due: 5 p.m. ET 2/19/20.

Docket Numbers: ER20-896-000.

Applicants: Southwest Power Pool, Inc.

Description: § 205(d) Rate Filing: 3126R5 WAPA NITSA NOA to be effective 1/1/2020.

Filed Date: 1/29/20.

Accession Number: 20200129-5039.

Comments Due: 5 p.m. ET 2/19/20.

Docket Numbers: ER20-897-000.

Applicants: Southwest Power Pool, Inc.

Description: § 205(d) Rate Filing: 3161R1 Basin Electric and MidAmerican Energy Attachment AO to be effective 1/1/2020.

Filed Date: 1/29/20.

Accession Number: 20200129-5040.

Comments Due: 5 p.m. ET 2/19/20.

Docket Numbers: ER20-898-000.

Applicants: Southwest Power Pool, Inc.

Description: § 205(d) Rate Filing: 1630R10 The Empire District Electric Company NITSA NOA to be effective 1/1/2020.

Filed Date: 1/29/20.

Accession Number: 20200129-5050.

Comments Due: 5 p.m. ET 2/19/20.

Docket Numbers: ER20-899-000.

Applicants: Wheelabrator Frackville Energy Company Inc.

Description: Petition for Limited Waiver, et al. of Wheelabrator Frackville Energy Company Inc.

Filed Date: 1/28/20.

Accession Number: 20200128-5201.

Comments Due: 5 p.m. ET 2/18/20.

Docket Numbers: ER20-900-000.

Applicants: Northern States Power Company, a Minnesota corporation.

Description: Tariff Cancellation: CHAK—West Crk SS Const Agrmt 283-NSP-NOC to be effective 3/29/2020.

Filed Date: 1/29/20.

Accession Number: 20200129-5065.

Comments Due: 5 p.m. ET 2/19/20.

Docket Numbers: ER20-901-000.

Applicants: West Penn Power Company, PJM Interconnection, L.L.C.

Description: § 205(d) Rate Filing: West Penn Power Company submits OIA Sa No. 5504 to be effective 3/29/2020.

Filed Date: 1/29/20.

Accession Number: 20200129-5071.

Comments Due: 5 p.m. ET 2/19/20.

Docket Numbers: ER20-902-000.

Applicants: sPower Energy Marketing.

Description: Baseline eTariff Filing: sPower Energy Marketing, LLC MBR Tariff to be effective 1/30/2020.

Filed Date: 1/29/20.

Accession Number: 20200129-5072.

Comments Due: 5 p.m. ET 2/19/20.

Docket Numbers: ER20-903-000.

Applicants: PJM Interconnection, L.L.C.

Description: § 205(d) Rate Filing: Ministerial Clean Up of OATT and OA Sections Due to Overlapping Dates to be effective 12/3/2019.

Filed Date: 1/29/20.

Accession Number: 20200129-5078.

Comments Due: 5 p.m. ET 2/19/20.

Docket Numbers: ER20-904-000.

Applicants: Southwest Power Pool, Inc.

Description: § 205(d) Rate Filing: SPP-MISO JOA Revisions to Enhance Pseudo-Tie Coordination to be effective 3/30/2020.

Filed Date: 1/29/20.

Accession Number: 20200129-5130.

Comments Due: 5 p.m. ET 2/19/20.

Docket Numbers: ER20-905-000.

Applicants: Midcontinent Independent System Operator, Inc.

Description: § 205(d) Rate Filing: 2020-01-29_SPP and MISO JOA Pseudo-Tie Revisions to be effective 3/30/2020.

Filed Date: 1/29/20.

Accession Number: 20200129-5145.

Comments Due: 5 p.m. ET 2/19/20.

Take notice that the Commission received the following qualifying facility filings:

Docket Numbers: QF18-452-002.

Applicants: North American Natural Resources, Inc.

Description: Pre-Arranged/Pre-Agreed (Settlement and Settlement Agreement) Filing, et al. of North American Natural Resources, Inc.

Filed Date: 1/28/20.

Accession Number: 20200128-5192.

Comments Due: 5 p.m. ET 2/3/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2020.
Kimberly D. Bose,
Secretary.

[FR Doc. 2020-02109 Filed 2-3-20; 8:45 am]

BILLING CODE 6717-01-P